DEPARTMENT OF HEALTH AND HUMAN SERVICES

National Institutes of Health

Center for Scientific Review; Amended Notice of Meeting

Notice is hereby given of a change in the meeting of the Center for Scientific Review Special Emphasis Panel, July 19, 2018, 08:00 a.m. to July 20, 2018, 06:00 p.m., National Institutes of Health, 6701 Rockledge Drive, Bethesda, MD, 20892 which was published in the Federal Register on June 26, 2018, 83 FR Pg 29803.

This meeting was changed from a 2-day meeting to a 1-day meeting. The meeting is now July 19, 2018 from 8:00 a.m. to 6:00 p.m. The meeting is closed to the public.

Dated: June 27, 2018.
Natasha M. Copeland,
Program Analyst, Office of Federal Advisory Committee Policy.

[FR Doc. 2018-14215 Filed 7-2-18; 8:45 am]

BILLING CODE 4140-01-P